MERIT SYSTEMS PROTECTION BOARD

5 CFR Part 1201

Practices and Procedures

AGENCY: Merit Systems Protection Board.

ACTION: Final rule.

SUMMARY: The Merit Systems Protection Board (MSPB or the Board) is amending its rules of practice and procedure in this part to reflect the relocation of its Western Regional Office.

EFFECTIVE DATE: July 27, 2007.

FOR FURTHER INFORMATION CONTACT: Matthew Shannon, Acting Clerk of the Board, (202) 653-7200. The Board is publishing this rule as a final rule pursuant to 5 U.S.C. 1204(h).

SUPPLEMENTARY INFORMATION: On July 27, 2007, the Board relocates its Western Regional Office from 250 Montgomery Street, Suite 400, 4th Floor, San Francisco, California 94105-3401, to 201 Mission Street, Suite 2310, San Francisco, California 94105-1831. Appendix II of this part is amended to show the new address. The Western Regional Office telephone number changes to (415) 904-6772 and the facsimile number is changes to (415) 904-0580.

List of Subjects in 5 CFR Part 1201

Administrative practice and procedure, Civil rights, Government employees.

Accordingly, the Board amends 5 CFR part 1201 as follows:

PART 1201—PRACTICES AND PROCEDURES

1. The authority citation for part 1201 continues to read as follows:

Authority: 5 U.S.C. 1204 and 7701, unless otherwise noted.

Appendix II to Part 1201 [Amended]

2. Amend Appendix II to Part 1201 in item 5. by removing “250 Montgomery Street, Suite 400, 4th Floor, San Francisco, California 941-3401, Facsmile No.: (415) 705-2945,” and adding, in its place “201 Mission Street, Suite 2310, San Francisco, California 94105-1831 Facsmile No.: (415) 904-0580,”.

Dated: July 18, 2007.
Arlin Winefordner,
Acting Clerk of the Board.

[FR Doc. E7-14293 Filed 7-23-07; 8:45 am]

BILLING CODE 7400-01-P